DEPARTMENT OF ENERGY

Federal Energy Regulatory Commission

[Project No. 10855-118—Michigan]

Upper Peninsula Power Company; Notice of Availability of Environmental Assessment

June 3, 2008.

In accordance with the National Environmental Policy Act of 1969, as amended, and the Federal Energy Regulatory Commission's (Commission) regulations (18 CFR Part 380), the Office of Energy Projects has prepared an environmental assessment (EA) regarding Upper Peninsula Power Company's request to rebuild the Silver Lake Development of the Dead River Hydroelectric Project (FERC No. 10855) located on the Dead River in Marquette County, Michigan. This EA concludes that the proposed reconstruction, with staff's recommended mitigation measures, would not constitute a major Federal action significantly affecting the quality of the human environment.

Copies of the EA are available for review in the Public Reference Room of the Commission's offices at 888 First Street, NE., Washington, DC. The EA also may be viewed on the Commission's Internet Web site (http://www.ferc.gov) using the “eLibrary” link. Enter the docket number (P-10855) in the docket number field to access the document. For assistance with eLibrary, contact ferconlinesupport@ferc.gov or call toll-free at (866) 208-3676, or for TTY contact (202) 502-8659.

For further information regarding this notice, please contact B. Peter Yarrington at (202) 502-6129 or by e-mail at peter.yarrington@ferc.gov.

Kimberly D. Bose,
Secretary.

[FR Doc. E8-12939 Filed 6-9-08; 8:45 am]

BILLING CODE 6717-01-P